DEPARTMENT OF THE TREASURY

Internal Revenue Service

Privacy Act of 1974: Computer Matching Program

AGENCY: Internal Revenue Service, Treasury.

ACTION: Notice of Matching Program.

SUMMARY: Pursuant to the Privacy Act of 1974, as amended, and the Office of Management and Budget (OMB) Guidelines on the Conduct of Matching Programs, notice is hereby given of the conduct of the Internal Revenue Service matching of systems of records Treasury/IRS 36.003 General Personnel and Payroll and Treasury .010 Telephone Call Detail Records.

DATES: Effective Date: This notice will be effective May 4, 2007.

ADDRESSES: Inquiries may be mailed to ACIO, Enterprise Networks; OS:CIO:EN 1111 Constiution Avenue, NW., Washington DC, 20224. Mailstop 3137.

FOR FURTHER INFORMATION CONTACT: Brenda N. Carroll, Project Manager, Telecommunications Asset Tool (TAT), OS:CIO:EN:P:V, Internal Revenue Service, (202) 283-4680.

SUPPLEMENTARY INFORMATION: The matching process is needed for the Internal Revenue Service (IRS), Enterprise Networks, Waste, Fraud, and Abuse initiative to automatically match long distance telephone and calling card call detail records/data to employee making the call(s) and match to the manager of that respective employee by using the Telecommunications Asset Tool (TAT), Corporate Authoritative Directory Services (CADS), and the Calling Card Ordering System (CCOS). Members of the public desiring specific information concerning an ongoing matching activity may request a copy of the applicable computer matching agreement at the address provided above.

Name of Source Agency: Internal Revenue Service.

Name of Recipient Agency: Internal Revenue Service.

Purpose: The purpose of this program is to prevent or reduce waste, fraud, and abuse while protecting the privacy interest of the subjects of the match.

Authority: 5 CFR part 2635, Standards of Ethical Conduct for Employees of the Executive Branch; 5 CFR part 3101, Supplemental Standards of Ethical Conduct for Employees of the Treasury Department Treasury Supplemental Standards (§§ 3101.101-3191, 107, the Treasury Employee Rules of Conduct).

In the past several years the Service has been increasingly challenged to ensure that all resources are used as efficiently as possible. Telecommunications expenditures are one of the largest items in the Service's budget and continue to be an area warranting increased scrutiny due to the steady and dramatic rise in telecommunications usage and cost. On September 25, 2001, in partnership with the National Treasury Employees Union (NTEU), the Service entered into an agreement to implement a new system for reviewing telecommunications usage.

A major purpose of the TAT is to provide a system of checks and balances that directly address the integrity of the data. The call detail data has been derived from Sprint billing data received monthly and used to build the call detail database. The new agency-wide TAT review process will concentrate on two areas: (1) Potential waste, fraud, and abuse of telecommunications resources; and (2) lost personnel productivity based on excessive time devoted to personal telephone calls. TAT provides data on 100% of call detail records, including long distance telephone calls and calling card calls. TAT is the tool for managing telecommunications expenditures and for identifying waste, fraud, and abuse. Additionally, managers can request ad hoc reports detailing calls from office telephones or calling cards if the manager suspects potential problems related to these services. The IRS is the only Federal agency that provides and uses the data.

Categories of individuals covered in the match: All IRS employees and IRS contractors who have a security clearance and are assigned a Standard Employee Identifier (SEID).

Categories of records covered in the match: Personnel/Payroll and Telephone Call Detail records from the following Privacy Act systems of records:

A. Treasury/IRS 36.003 General Personnel and Payroll Data

CADS data to be used in the matching program: Standard Employee Identifier (SEID), Employee Name, Manager Name, Organizational Symbols, Building/Room Number, Business Office Address, Employee Telephone Number.

B. Treasury/IRS 36.003 General Personnel and Payroll Data

CCOS data to be used in the matching program: Standard Employee Identifier (SEID), Employee Name, Manager Name, Organizational Symbols, Building/Room Number, Business Office Address, Calling Card Number.

C. Treasury .010 Telephone Call Detail Records

TAT data to be used in the matching program: Date, Time, Originating Telephone Number, Originating Access, Terminating Telephone Number, Terminating City/State, Terminating Access, Minutes, Conference Call Cancellation Charge, Calling Card Number, Tax and Total Cost.

The telephone number or calling card data from the TAT process will be matched with CADS or CCOS database to identify the employee assigned to the respective telephone number/calling card and identify the manager to whom the employee is assigned. Once the manager is identified, the respective/applicable call detail report(s) are generated.

Beginning and completion dates: The matches are conducted on an ongoing basis in accordance with the terms of the computer matching agreement in effect between the parties as approved by the Treasury Data Integrity Board. The term of this agreement is expected to cover the 18-month period beginning March 1, 2007 and ending August 31, 2008.

Ninety days prior to expiration of the agreement, the parties to the agreement may request a 12-month extension in accordance with 5 U.S.C. 552a(o).

Dated: March 28, 2007.
Wesley T. Foster,
Acting Assistant Secretary for Management.

[FR Doc. E7-6238 Filed 4-3-07; 8:45 am]

BILLING CODE 4830-01-P